DEPARTMENT OF COMMERCE

National Oceanic and Atmospheric Administration

[I.D. 031506A]

Marine Mammals; File Nos. 358-1787 and 1070-1783

AGENCY: National Marine Fisheries Service (NMFS), National Oceanic and Atmospheric Administration (NOAA), Commerce.

ACTION: Notice; issuance of permits.

SUMMARY: Notice is hereby given that permits to conduct scientific research on marine mammals have been issued to Dr. Alejandro Acevedo-Gutierrez, Biology Department, Western Washington University, Bellingham, Washington (File No. 1070-1783); and the Alaska Department of Fish and Game, Division of Wildlife Conservation, Juneau, Alaska (File No. 358-1787).

ADDRESSES: The permits and related documents are available for review upon written request or by appointment in the following office(s):

Permits, Conservation and Education Division, Office of Protected Resources, NMFS, 1315 East-West Highway, Room 13705, Silver Spring, MD 20910; phone (301)713-2289; fax (301)427-2521;

File No. 1070-1783: Northwest Region, NMFS, 7600 Sand Point Way NE, BIN C15700, Bldg. 1, Seattle, WA 98115-0700; phone (206)526-6150; fax (206)526-6426; and

File No. 358-1787: Alaska Region, NMFS, P.O. Box 21668, Juneau, AK 99802-1668; phone (907)586-7221; fax (907)586-7249.

FOR FURTHER INFORMATION CONTACT: Tammy Adams or Amy Sloan, (301)713-2289.

SUPPLEMENTARY INFORMATION: On September 14, 2005, notice was published in the Federal Register (70 FR 54369) that a request for a scientific research permit to take harbor seals (Phoca vitulina) in Washington had been submitted by Dr. Acevedo-Gutierrez. On June 28, 2005, notice was published in the Federal Register (70 FR 37089) that a request for a scientific research permit to take harbor seals, spotted seals (P. largha), ringed seals (P. hispida), ribbon seals (P. fasciata), and bearded seals (Erignathus barbatus) in Alaska had been submitted by the Alaska Department of Fish and Game. The requested permits have been issued under the authority of the Marine Mammal Protection Act of 1972, as amended (16 U.S.C. 1361 et seq.), and the Regulations Governing the Taking and Importing of Marine Mammals (50 CFR part 216).

Permit No. 1070-1783-00 authorizes researchers to disturb harbor seals from the Washington Inland Waters Stock during aerial and vessel surveys and scat collections. The objective of the research is to study temporal and spatial variation in numbers and diet composition of harbor seals to determine responses of harbor seals to changes in prey density and the impact of seal behavior on marine protected areas. The permit is valid through March 2011.

Permit No. 358-1787-00 authorizes researchers to disturb seals in Alaska during aerial surveys. The permit also allows researchers to capture, sample, and tag seals and to disturb additional seals incidental to these capture and sampling operations. The permit allows for the research-related mortality of a limited number of seals each year. The permit allows for the collection of biological samples from subsistence harvested seals for various analyses. The purpose of the research is to collect additional information on the ecology of these seal species with the objectives of estimating trends in population abundance and identifying factors affecting the decline of some populations. The permit is valid through March 2011.

In compliance with the National Environmental Policy Act of 1969 (42 U.S.C. 4321 et seq.), a final determination has been made that issuance of the proposed permits is categorically excluded from the requirement to prepare an environmental assessment or environmental impact statement.

Dated: March 16, 2006.
Stephen L. Leathery,
Chief, Permits, Conservation and Education Division, Office of Protected Resources, National Marine Fisheries Service.

[FR Doc. E6-4161 Filed 3-21-06; 8:45 am]

BILLING CODE 3510-22-S